DEPARTMENT OF TRANSPORTATION

Federal Highway Administration

Rescinding a Notice of Intent To Prepare an Environmental Impact Statement for the Long Island Rail-Truck Intermodal Facility

AGENCY: Federal Highway Administration (FHWA), Department of Transportation.

ACTION: Notice to rescind a notice of intent to prepare an environmental impact statement.

SUMMARY: The FHWA is issuing this Notice to advise the public that we are rescinding the 2004 Notice of Intent (NOI) to Prepare an Environmental Impact Statement (EIS) for the development of the Long Island Rail-Truck Intermodal Facility (LIRTIF) on a portion of the Pilgrim State Hospital property, located in the Town of Islip, Suffolk County, New York.

FOR FURTHER INFORMATION CONTACT: For FHWA: Richard J. Marquis, Division Administrator, Federal Highway Administration, New York Division, Leo W. O'Brien Federal Building, 7th Floor, Clinton Avenue and North Pearl Street, Albany, New York 12207, Telephone: 518-431-8897, Email: Rick.Marquis@dot.gov. For New York State Department of Transportation: Rich Causin, P.E., Acting Regional Director, New York State Department of Transportation, Region 10, State Office Building, 250 Veterans Memorial Highway, Hauppauge, NY 11788, Telephone: 631-952-6632, Email: Mary.Ricard@dot.ny.gov.

SUPPLEMENTARY INFORMATION: The FHWA, as the lead Federal agency, in cooperation with the New York State Department of Transportation (NYSDOT), published a NOI on June 10, 2004 (69 FR 32656) to prepare an EIS for the development of the LIRTIF on a portion of the Pilgrim State Hospital property, located in the Town of Islip, Suffolk County, New York. Subsequently, FHWA and NYSDOT developed a Draft EIS that was signed on May 22, 2007. FHWA hereby advises the public, after coordination with the NYSDOT, that we are rescinding the NOI for the project and cancelling any work associated with the existing EIS due to the significant time that has passed and the age of the traffic data utilized for the development of the Draft EIS. The NYSDOT may initiate a new project in the future as they remain committed to advancing strategies that mitigate congestion and reduce greenhouse gas emissions, including increasing the efficiency of freight goods movement in the Long Island Region.

Any future Federal-aided Long Island Rail-Truck Intermodal Facility project will comply with the environmental review requirements of the National Environmental Policy Act (NEPA) (42 U.S.C. 4321 et seq.), FHWA environmental regulations (23 CFR part 771), and related authorities, as appropriate. Comments and questions concerning this action should be directed to FHWA at the address provided in the FOR FURTHER INFORMATION CONTACT section of this Notice.

(Catalog of Federal Domestic Assistance Program Number 20.205, Highway Research, Planning and Construction. The regulations implementing Executive Order 12372 regarding intergovernmental consultation on Federal programs and activities apply to this program.)

Authority: 42 U.S.C. 4321 et seq.; 23 CFR part 771.

Issued on: April 20, 2021.
Richard J. Marquis,
Division Administrator, Albany, New York.

[FR Doc. 2021-08601 Filed 4-23-21; 8:45 am]

BILLING CODE 4910-22-P